Proclamation 8390 of June 2, 2009

National Caribbean-American Heritage Month, 2009

By the President of the United States of America

A Proclamation

Caribbean Americans have made lasting contributions to our Nation’s culture and history, and the month of June has been set aside to honor their cultural, linguistic, ethnic, and social diversity.

Generations of immigrants have preserved the traditions of their homelands, and these traditions have defined our Nation’s identity. Caribbean Americans bring a unique and vibrant culture. This multilingual and multiethnic tradition has strengthened our social fabric and enriched the diversity of our Nation.

Millions of individuals in the United States have Caribbean roots. Unfortunately some Caribbean Americans were forced to our country as slaves; others arrived of their own volition. All have sought the promise of a brighter tomorrow for themselves and their children.

In their pursuit of success, Caribbean Americans exhibit the traits all Americans prize: determination, a devotion to community, and patriotism. They have made their mark in every facet of our society, from art to athletics and science to service. Caribbean Americans have also safeguarded our Nation in the United States Armed Forces.

This month we also recognize the critical relationship the United States maintains with Caribbean nations. In a world of increasing communication and connectivity, this friendship has become even more important. We are neighbors, partners, and friends; we share the same aspirations for our children; and we strive for the very same freedoms. Together, we can meet the common challenges we face.

NOW, THEREFORE, I, BARACK OBAMA, President of the United States of America, by virtue of the authority vested in me by the Constitution and the laws of the United States, do hereby proclaim June 2009 as National Caribbean-American Heritage Month. I urge all Americans to commemorate this month by learning more about the history and culture of Caribbean Americans.

IN WITNESS WHEREOF, I have hereunto set my hand this second day of June, in the year of our Lord two thousand nine, and of the Independence of the United States of America the two hundred and thirty-third.

[FR Doc. E9-13410

Filed 6-4-09; 11:15 am]

Billing code 3195-W9-P